SURFACE TRANSPORTATION BOARD

[Docket No. FD 36705]

Youngstown & Austintown Railroad, Inc.—Acquisition and Operation Exemption—Economic Development Rail Corporation

Youngstown & Austintown Railroad, Inc. (YARR), a Class III rail carrier, has filed a verified notice of exemption under 49 CFR 1150.41 to acquire from Economic Development Rail Corporation (EDRC) and to operate approximately 2.74 miles of rail line known as the Y and A Branch (Line Code 6556) (Austintown Industrial Track) from approximately milepost 0.76 (at a point south of the clearance point of the switch connection with CSX Transportation, Inc.) to approximately milepost 3.50 (at the northerly right-of-way line of Oakwood Avenue) in Youngstown, Mahoning County, Ohio (the Line). According to the verified notice, YARR is the current operator of the Line, having operated over the Line pursuant to an operating agreement between YARR and EDRC for over 30 years.

The verified notice states that YARR has entered into a Purchase and Sale Agreement to acquire the Line from EDRC so that YARR can become the owner of the Line, as well as the operator.

YARR certifies that the proposed acquisition of the Line does not involve any interchange commitments. YARR further certifies that its projected revenues as a result of this transaction will not exceed those that would qualify it as a Class III carrier and that its projected annual revenue will not exceed $5 million.

The transaction may be consummated on or after September 27, 2023, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than September 20, 2023.

All pleadings referring to Docket No. FD 36705, should be filed with the Surface Transportation Board either via e-filing on the Board's website or in writing addressed to 395 E Street SW, Washington, DC 20423-0001. In addition, one copy of each pleading must be served on YARR's representative, Eric M Hocky, Clark Hill PLC, Two Commerce Square, 2001 Market St., Suite 2620, Philadelphia, PA 19103.

According to YARR, this action is categorically excluded from environmental review under 49 CFR 1105.6(c) and from historic reporting requirements under 49 CFR 1105.8(b).

Board decisions and notices are available at www.stb.gov.

Decided: September 7, 2023.
By the Board, Mai T. Dinh, Director, Office of Proceedings.
Eden Besera,
Clearance Clerk.

[FR Doc. 2023-19752 Filed 9-12-23; 8:45 am]

BILLING CODE 4915-01-P